DEPARTMENT OF TRANSPORTATION

Federal Aviation Administration

Office of Commercial Space Transportation; Notice of Approval on a Record of Decision (ROD) for the Spaceport America Commercial Launch Site, Sierra County, NM

AGENCY: The Federal Aviation Administration (FAA), Department of Transportation.

ACTION: Notice of Approval of Record of Decision.

SUMMARY: In accordance with National Environmental Policy Act (NEPA) regulations and FAA Order 1050.1E, Change 1, the FAA is announcing the availability of the ROD for the Spaceport America Commercial Launch Site, Sierra County, New Mexico. The ROD provides the FAA's final environmental determination and approval to support the issuance of a Launch Site Operator License to the New Mexico Spaceport Authority (NMSA) to operate Spaceport America, as proposed in the Final Environmental Impact Statement (EIS) published in November 2008.

The ROD provides a description of the applicant's Proposed Action and reasonable alternatives, and identifies the FAA's preferred and the environmentally preferred alternative. It includes a discussion of environmental impacts associated with the Proposed Action in each resource area, as analyzed in the Final EIS. The ROD summarizes the mitigation and enforcement actions that would be made the subject of the terms and conditions of the Launch Site Operator License issued to NMSA, as well as other conservation and enhancement measures described in the Final EIS and presented for consideration.

The Final EIS, prepared by the FAA for the Spaceport America Commercial Launch Site, serves as the primary reference and basis for preparation of the ROD. The Final EIS documents the analysis of environmental consequences associated with the construction and operation of Spaceport America and reasonable alternatives to the Proposed Action. The FAA is the lead Federal agency responsible for the preparation of the EIS and ROD for the proposed Spaceport America. Cooperating agencies include the Bureau of Land Management, the National Park Service, the U.S. Army's White Sands Missile Range (WSMR), and the National Aeronautics and Space Administration. The EIS and ROD were prepared pursuant to the requirements of the National Environmental Policy Act of 1969 as amended (42 U.S.C. 4321, et seq.), the Council on Environmental Quality (CEQ) Regulations for Implementing the Procedural Provisions of NEPA (40 CFR 1500-1508), and FAA Order 1050.1E, Change 1, Environmental Impacts: Policies and Procedures.

The FAA has posted the ROD on the FAA Web site at http://ast.faa.gov. In addition, paper copies of the ROD will be sent out with the signed Programmatic Agreement to persons and agencies on the distribution list (found in Chapter 8 of the Final EIS). The Programmatic Agreement addresses significant impacts to Historical, Architectural, Archaeological, and Cultural Resources from the Proposed Action.

Additional Information: Under the Proposed Action, and the alternative selected by the FAA for implementation, the FAA would issue a Launch Site Operator License to NMSA that would allow the State to operate the proposed Spaceport America Commercial Launch Site. The EIS analyzed launching both horizontal and vertical launch vehicle (LV) launches. Horizontal LVs would launch and land at the proposed Spaceport America airfield. Vertical LVs would launch from Spaceport America and either land at Spaceport America or at WSMR. Rocket-powered vertical landing vehicles would land on either the Spaceport America airfield or a vertical launch/landing pad.

In addition, the Proposed Action includes construction of facilities needed to support the licensed launch activities at the proposed launch site. Development of Spaceport America infrastructure would occur in two phases. The total area of land disturbed by construction would be approximately 970 acres; the total area of the final facilities footprint would be approximately 145 acres. The proposed Spaceport America boundary would encompass approximately 26 square miles. This area currently contains both State and private land.

Operational activities in support of the Proposed Action would begin as soon as the phased construction activities related to the Proposed Action were completed. The operational activities that may have environmental consequences and would support, either directly or indirectly, licensed launches include:

• Transport of Launch Vehicles to the Assembly or Staging Areas

• Transport and Storage of Rocket Propellants and Other Fuels

• Launch, Landing and Recovery Activities for Horizontal Vehicles

• Launch, Landing and Recovery Activities for Vertical Vehicles

• Other Activities

—Ground-Based Tests and Static Firings

—Training

—X Prize Cup Events

The FAA identified two alternatives and the No Action Alternative to the Proposed Action, which are considered in the Final EIS. Under Alternative 1, FAA would consider issuing a Launch Site Operator License only for the operation of a launch site to support horizontal launches. This is considered a feasible alternative because a significant number of launches of horizontal LVs are projected, and most X Prize Cup activities would be located at the airfield.

Under Alternative 2, FAA would consider issuing a Launch Site Operator License only for the operation of a launch site to support vertical launches. This is considered a feasible alternative because a significant number of launches are projected to be of vertical LVs.

Under the No Action Alternative, the FAA would not issue a Launch Site Operator License to the NMSA. Subsequently, the need to support commercial launches and host the X Prize Cup would not be met by the State of New Mexico.

Resource areas were considered to provide a context for understanding and assessing the potential environmental effects of the Proposed Action, with attention focused on key issues. The resource areas considered included compatible land use; Section 4(f) lands and farmlands; noise; visual resources and light emissions; historical, architectural, archaeological, and cultural resources; air quality; water quality, wetlands, wild and scenic rivers, coastal resources, and floodplains; fish, wildlife, and plants; hazardous materials, pollution prevention, and solid waste; socioeconomics, environmental justice, and children's environmental health and safety risks; and energy supply and natural resources. Construction impacts and secondary (induced) impacts are also considered. Additional analyses considered in the appendices include geology and soils; mineral resources; air space; health and safety; and transportation.

As stated in the ROD and supported by the Final EIS, Alternatives 1 and 2 and the No Action Alternative would result in restrictive licensing that would impede the FAA's ability to assist the commercial space transportation industry in meeting projected demand for services and expansion into new markets. The Preferred Alternative, the applicant's Proposed Action, would allow the greatest development and growth of the U.S. commercial space launch industry. In addition, although implementation of the Preferred Alternative would result in slightly greater environmental impacts than the overall impacts associated with the alternatives including the No Action Alternative, the impacts are still expected to be less than significant, in all but one resource area. Therefore, the FAA has selected the Preferred Alternative.

FOR FURTHER INFORMATION CONTACT: Stacey M. Zee (AST-100), Office of Commercial Space Transportation, 800 Independence Avenue SW., Room 331, Washington, DC 20591, telephone (202) 267-9305; E-mail stacey.zee@faa.gov.

Issued in Washington, DC on December 18, 2008.
Michael McElligott,
Manager, Space Systems Development Division.

[FR Doc. E8-30845 Filed 12-24-08; 8:45 am]

BILLING CODE 4910-13-P